DEPARTMENT OF TRANSPORTATION

National Highway Traffic Safety Administration

[U.S. DOT Docket No. NHTSA-2005-22932]

Reports, Forms, and Recordkeeping Requirements

AGENCY: National Highway Traffic Safety Administration (NHTSA), DOT.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections.

This document describes the collection of information for which NHTSA intends to seek OMB approval.

DATES: Comments must be received on or before February 3, 2006.

ADDRESSES: Direct all written comments to U.S. Department of Transportation Dockets, 400 Seventh Street, SW., Plaza 401, Washington, DC 20590. Docket No. NHTSA-2005-22932.

FOR FURTHER INFORMATION CONTACT: John Siegler, PhD., Contracting Officer's Technical Representative, Office of Research and Technology (NTI-132), National Highway Traffic Safety Administration, 400 Seventh Street, SW., Room 5119, Washington, DC 20590.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, and or other technological collection techniques or other forms of information technology. e.g., permitting electronic submissions of responses.

In compliance with these requirements, NHTSA asks public comment on the following proposed collection of information:

Evaluation Surveys for Impaired Driving and Safety Belt Interventions

Type of Request—New information collection requirement.

OMB Clearance Number—None.

Form Number—This collection of information uses no standard forms.

Requested Expiration Date of Approval—3 years from date of approval.

Summary of the Collection of Information—The National Highway Traffic Safety Administration (NHTSA) proposes to conduct telephone surveys to evaluate interventions designed to increase safety belt use and reduce impaired driving. Sample sizes would range from 200 to 2000 depending on the geographic unit being surveyed (Nation, Region, State, Community) and the evaluation design for the intervention (e.g., number of analytic groups). Interview length would be 10 minutes. The surveys would collect information on attitudes, awareness, knowledge, and behavior related to the intervention. The surveys would follow a pre-post design where they are administered prior to the implementation of the intervention and after its conclusion. Interim survey waves may also be administered if the duration of the intervention permits.

In conducting the proposed surveys, the interviewers would use computer-assisted telephone interviewing to reduce interview length and minimize recording errors. A Spanish Language translation and bilingual interviewers would be used to minimize language barriers to participation. The proposed surveys would be anonymous and confidential.

Description of the Need for the Information and Proposed Use of the Information—The National Highway Traffic Safety Administration (NHTSA) was established to reduce the mounting number of deaths, injuries, and economic losses resulting from motor vehicle crashes on the Nation's highways. As part of this statutory mandate, NHTSA is authorized to conduct research as a foundation for the development of motor vehicle standards and traffic safety programs.

The heavy toll that impaired driving exacts on the Nation in fatalities, injuries, and economic costs is well documented. Strong documentation also exists to show that wearing a safety belt is one of the most important actions a person can take to prevent injury or fatality in the event of a crash, but a significant proportion of the population still does not wear them. The persistence of these traffic safety problems points to a continuing need for effective interventions to address impaired driving and non-use of safety belts. This in turn calls for strong evaluation efforts to identify what interventions are effective. This includes monitoring key interventions that have been shown to be effective in order to determine whether they are retaining their potency, as well as identifying new or refined interventions that may influence parts of the population that have been resistant to previous measures.

Over the next few years, a number of legislative and programmatic changes will require NHTSA to collect public awareness information about its programs. With the introduction of SAFETEA-LU, section 157 grants (TEA-21) will no longer be available to fund States' occupant protection programs. As a result, States will have to sustain their own high enforcement efforts to increase belt use. Public Awareness surveys will be needed to determine if States are successful in sustaining their programs without NHTSA support.

Under section 410 of SAFETEA-LU, spending for State enforcement grants for impaired driving programs will increase almost 100 million dollars annually, from 39.6 million in 2005 to $139 million in 2009. States seeking to access these grants for specific impaired driving activities will need to have implemented a number of programs in order to be eligible for these grants including: statewide checkpoints and/or saturation patrols, prosecution/adjudication outreach, increased BAC testing of drivers in fatal crashes, high BAC law (stronger/additional penalties), effective alcohol rehabilitation and/or DWI courts, under age 21 program, administrative license revocation or suspension, and self-sustaining programs. It is expected that such heightened activity will increase drivers' awareness of these programs and reduce incidents of impaired driving. Public awareness surveys would enable NHTSA to evaluate the effectiveness of this increased spending.

Between 2006 and 2009, SAFETEA-LU has authorized NHTSA to spend $29 million annually on National media to promote a message of high visibility enforcement for both impaired driving and occupant protection programs. This, coupled with proposed changes in the media message for the impaired driving program, requires NHTSA to examine public awareness of programs to determine whether the media messages are reaching the target audience.

In order to reduce the work requirements for each State and to create sets of survey data that may be compared among the States, NHTSA will grant one or more separate awards to survey firms with expertise in conducting random telephone surveys. The data will be used to properly plan and evaluate enforcement activities directed at reducing the occurrence of alcohol impaired driving and increasing the use of safety belts. Data from National surveys will be used to assess the overall effectiveness of these programs, while State data will assess effectiveness of individual State programs. States found to have implemented effective programs to reduce their impaired driving problem, and increased their safety belt use, will prepare materials that highlight major features of their programs to be disseminated among States that want to implement an improved alcohol enforcement program or occupant protection enforcement program.

It should be noted that during the past decade NHTSA has conducted surveys on attitudes and behaviors on impaired driving and safety belt use. These surveys were very useful in convincing States and communities to adopt more effective programs that have raised safety belt use rates to record levels and initiated a new downward trend in impaired driving. Most of these surveys were conducted years ago and cannot be used to evaluate new programs scheduled to be initiated in the next few years.

Description of the Likely Respondents (Including Estimated Number, and Proposed Frequency of Response to the Collection of Information)—Over the next 3 years, NHTSA intends to conduct National telephone surveys to collect data from a total of 21,600 participants. For the impaired driving programs, 2 sets of pre/post intervention surveys, each with sample sizes of 1200, will be administered annually for 3 years. For the Occupant Protection programs, 1 set of pre/post intervention surveys, each with sample sizes of 1200, will be administered annually for 3 years. NHTSA may also select certain sub-groups to survey, including State, Regional, and Community telephone surveys to monitor and evaluate occupant protection and impaired driving demonstration projects. Typically, a State demonstration survey will require 500 participants. A regional demonstration survey can range from as few as 200 participants for a small county to 2000 participants for a region covering more than one State.

Interviews will be conducted with persons at residential phone numbers selected using random digit dialing. No more than one respondent per household will be selected, and each sample member will complete just one interview. Businesses are ineligible for the sample and would not be interviewed. After each wave is completed and the data analyzed, the findings will be disseminated to each State for review.

Estimate of the Total Annual Reporting and Recordkeeping Burden Resulting From the Collection of Information—NHTSA estimates that respondents in the sample would require an average of 10 minutes to complete the telephone interviews. Thus, the number of annual estimated reporting burden on the general public would be 1,200 hours for the National surveys and a maximum of 2,800 hours for the State and regional demonstration surveys, or a maximum of 4,000 hours per year for the combined National, State, and regional surveys. The respondents would not incur any reporting or recordkeeping costs from the information collection.

Authority: 44 U.S.C. section 3506(c)(2)(A).

Issued on: November 22, 2005.
Marilena Amoni,
Associate Administrator of Program Development and Delivery.

[FR Doc. 05-23597 Filed 12-2-05; 8:45 am]

BILLING CODE 4910-59-M